DEPARTMENT OF COMMERCE

International Trade Administration

[A-549-825]

Polyethylene Terephthalate Film, Sheet, and Strip from Thailand: Amended Final Determination of Sales at Less Than Fair Value

AGENCY: Import Administration, International Trade Administration, Department of Commerce.

EFFECTIVE DATE: October 31, 2008.

FOR FURTHER INFORMATION CONTACT: Stephen Bailey or Angelica Mendoza, AD/CVD Operations, Import Administration, International Trade Administration, U.S. Department of Commerce (the Department), 14th Street and Constitution Avenue, NW, Washington, DC 20230; telephone: (202) 482-0193 or (202) 482-3019, respectively.

SUPPLEMENTARY INFORMATION:

Amendment to the Final Determination

In accordance with sections 735(a) and 777(i)(1) of the Tariff Act of 1930, as amended, (the Act), on September 17, 2008, the Department made a final determination of sales at less than fair value (LTFV) in the investigation of polyethylene terephthalate film, sheet, and strip (PET Film) from Thailand. The final determination was subsequently released to all parties in the proceeding, and published in the Federal Register on September 24, 2008. See Notice of Final Determination of Sales at Less Than Fair Value: Polyethylene Terephthalate Film, Sheet, and Strip from Thailand, 73 FR 55043 (September 24, 2008) (Final Determination).

On September 25, 2008, and pursuant to 19 CFR 351.224(c)(2), we received a timely-filed allegation from respondent Polyplex Thailand Public Company Limited and its U.S. affiliate Polyplex Americas, Ltd. (collectively, Polyplex), that the Department made ministerial errors with respect to its final dumping margin calculation. See Letter from Polyplex to the Department, regarding “Ministerial Error Comments,” dated September 25, 2008. On September 30, 2008, we received comments from Petitioners¹ regarding the ministerial errors alleged by Polyplex. See Letter from Petitioners to the Department, regarding the ministerial errors alleged by Polyplex, dated September 30, 2008.

¹ DuPont Teijin Films, Mitsubishi Polyester Film of America, Inc., SKC, Inc. and Toray Plastics (America), Inc. (collectively, Petitioners).

After analyzing the respondent's ministerial error comments and considering Petitioners' comments thereof, we have determined, in accordance with 19 CFR 351.224(e), that we made certain ministerial errors with respect to our final dumping margin calculation for Polyplex and have revised our margin calculation accordingly. Specifically, the Department inadvertently did not convert domestic inventory carrying cost (DINVCARU) into U.S. dollars after re-calculating this expense for the Final Determination to account for certain changes to Polyplex's reported costs. See Final Determination, 73 FR at 55044. The Department has revised its calculation of DINVCARU to convert this expense into U.S. dollars as intended. Additionally, the Department inadvertently failed to account for certain income accounts reported in Polyplex Americas, Ltd.'s Saracote division when calculating the U.S. indirect selling expense (ISE) ratio. See “Issues and Decision Memorandum for the Final Determination of the Antidumping Duty Investigation of Polyethylene Terephthalate Film, Sheet, and Strip (PET Film) from Thailand” (Decision Memorandum) from Stephen J. Claeys, Deputy Assistant Secretary for Import Administration, to David M. Spooner, Assistant Secretary for Import Administration, dated September 17, 2008, at Comment 5. For this amended final determination, the Department has revised its calculation of the U.S. ISE ratio to account for certain income expenses recorded by the Saracote division of Polyplex Americas, Ltd. as intended. Finally, the Department inadvertently failed to include bad debt expenses in its calculation of the U.S. ISE ratio for Polyplex. See Decision Memorandum at Comment 5. For a detailed discussion of the ministerial errors alleged by Polyplex as well as the Department's analysis, see Memorandum from the Team to Richard O. Weible, entitled, “Ministerial Error Allegation in the Final Determination of the Antidumping Duty Investigation of Polyethylene Terephthalate Film, Sheet, and Strip from Thailand,” dated October 24, 2008. Correcting these errors results in a revised margin of 5.36 percent for Polyplex as indicated in the “Amended Cash Deposits” section below.

Therefore, in accordance with 19 CFR 351.224(e), we are amending the final determination of sales at LTFV in the antidumping duty investigation of polyethylene terephthalate film, sheet, and strip from Thailand for Polyplex.

All-Others Rate

Section 735(c)(5)(A) of the Act provides that the estimated all-others rate shall be an amount equal to the weighted-average of the estimated weighted-average dumping margins established for exporters and producers individually investigated, excluding any zero and de minimis margins and any margins determined entirely under section 776 of the Act. For this amended final determination, we have calculated an amended margin for Polyplex that is above de minimis and will use this rate as the all-others rate as no other producer was investigated.

Therefore, for purposes of determining the all-others rate, and pursuant to section 735(c)(5)(A) of the Act, we are using the amended weighted-average dumping margin calculated for Polyplex of 5.36 percent.

Amended Cash Deposits

The revised weighted-average dumping margins are as follows:

Manufacturer/Exporter | Final Determination Weighted-Average Margin Percentage | Amended Final Weighted-Average Percentage
Polyplex | 6.07 | 5.36
All-Others | 6.07 | 5.36

Continuation of Suspension of Liquidation

In accordance with section 735(c)(1)(B) of the Act, we are directing U.S. Customs and Border Protection (CBP) to continue to suspend liquidation of all entries of polyethylene terephthalate film, sheet, and strip from Thailand. CBP shall require a cash deposit equal to the estimated amount by which the normal value exceeds the U.S. price as indicated in the chart above. These instructions suspending liquidation will remain in effect until further notice.

This amended determination is issued and published pursuant to section 735(e) and 777(i)(1) of the Act.

Dated: October 24, 2008.
Stephen J. Claeys,
Acting Assistant Secretary for Import Administration.

[FR Doc. E8-26035 Filed 10-30-08; 8:45 am]

BILLING CODE 3510-DS-S